DEPARTMENT OF JUSTICE

[OMB Number 1110-0072]

Agency Information Collection Activities; Proposed eCollection eComments Requested; Revision of a Previously Approved Collection; Address Verification/Change Request Form (1-797)

AGENCY: Federal Bureau of Investigation, Department of Justice.

ACTION: 60-Day notice.

SUMMARY: The Federal Bureau of Investigation, Criminal Justice Information Services Division, Department of Justice (DOJ), will be submitting the following information collection request to the Office of Management and Budget (OMB) for review and approval in accordance with the Paperwork Reduction Act of 1995.

DATES: Comments are encouraged and will be accepted for 60 days until March 18, 2024.

FOR FURTHER INFORMATION CONTACT: If you have additional comments especially on the estimated public burden or associated response time, suggestions, or need a copy of the proposed information collection instrument with instructions or additional information, please contact Brian A. Cain, Management and Program Analyst, FBI, CJIS, Criminal History Information and Policy Unit, BTC-3, 1000 Custer Hollow Road, Clarksburg, WV 26306; phone: 304-625-5590 or email fbi-iii@fbi.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: U.S. Department of Justice Order (DO) 556-73 established rules and regulations for an individual to obtain a copy of their Identity History Summary for review or challenge, or as proof that one does not exist. The Address Verification/Change Request Form (1-797) is necessary to assure information is appropriately collected and/or updated in accordance to DO 556-73.

Overview of this information collection:

1. Type of Information Collection: Revision of a previously approved collection.

2. The Title of the Form/Collection: Address Verification/Change Request.

3. The agency form number, if any, and the applicable component of the Department sponsoring the collection: 1110-0072, Form 1-797, CJIS Division, FBI, DOJ.

4. Affected public who will be asked or required to respond, as well as the obligation to respond: Individuals or households. The obligation to respond is voluntary, but required to obtain a copy of their Identity History Summary when a change in address occurs.

5. An estimate of the total number of respondents and the amount of time estimated for an average respondent to respond: The total number of respondents is estimated to be 75. The estimated time per response is five minutes to complete.

6. An estimate of the total annual burden (in hours) associated with the collection: The total annual burden hours for this collection is 6.25 hours.

7. An estimate of the total annual cost burden associated with the collection, if applicable: Respondents will not incur any costs other than their time to respond. Respondents will not incur any capital, start up, or system maintenance costs associated with this information collection.

Total Burden Hours
Activity | Number of respondents | Frequency | Total annual responses | Time per response (min.) | Total annual burden (hours)
Ex: Survey (individuals or households) | 75 | 1/annually | 375 | 5 | 6.25
Unduplicated Totals | 75 |  | 375 |  | 6.25

If additional information is required contact: John R. Carlson, Department Clearance Officer, United States Department of Justice, Justice Management Division, Policy and Planning Staff, Two Constitution Square, 145 N Street NE, 4W-218, Washington, DC.

Dated: January 12, 2024.
Darwin Arceo,
Department Clearance Officer for PRA, U.S. Department of Justice.

[FR Doc. 2024-00925 Filed 1-17-24; 8:45 am]

BILLING CODE 4410-02-P